DEPARTMENT OF HEALTH AND HUMAN SERVICES

Administration on Aging

[Program Announcement No. AoA-02-02]

Fiscal Year 2002 Program Announcement; Availability of Funds and Notice Regarding Applications

AGENCY: Administration on Aging, HHS.

ACTION: Announcement of availability of funds and request for applications for the Alzheimer Disease Demonstration Grants to States Program.

SUMMARY: The Administration on Aging announces that under this program announcement it will hold a competition for grant awards for five (5) to seven (7) projects at a federal share of approximately $225,000-$350,000 per year for a project period of three years.

Purpose of Grant Awards

The purpose of these projects is to:

1. Develop models of home and community based care for persons with Alzheimer's disease and their families, and

2. Improve the existing home and community based care system to better respond to the needs of persons with dementia and their families.

Eligibility for Grant Awards and Other Requirements

Eligibility for grant awards is limited to state agencies. The twenty-five states currently funded under the Alzheimer's Demonstration Program are not eligible. Only one application per state will be accepted. Applicants must provide a letter from their state's Governor designating the applicant agency as the sole applicant for the state.

Grantees are required to provide a 25% non-federal match during the first year, 35% during the second year, and 45% during the third year of the grant.

DATES: The deadline date for the submission of applications is April 24, 2002.

ADDRESSES: Application kits are available by writing to the U.S. Department of Health and Human Services, Administration on Aging, Center for Policy and Planning Development, 330 Independence Ave., SW, Room 4270, Washington, DC 20201, by calling 202/401-4547, or online at http://www.aoa.gov/egrants.

Applications may be mailed or hand-delivered to the AoA Office of Grants Management at the same address. Instructions for electronic submission of grant applications are available at http://www.aoa.gov/egrants.

Dated: February 25, 2002.
Josefina G. Carbonell,
Assistant Secretary for Aging.

[FR Doc. 02-4917 Filed 2-28-02; 8:45 am]

BILLING CODE 4154-01-P